DEPARTMENT OF TRANSPORTATION

Federal Aviation Administration

Air Tour Management Plan for Haleakala National Park, Maui, HI; Public Meeting/Notice of Availability, Review, and Comment on Alternatives for the Development

AGENCY: Federal Aviation Administration (FAA), DOT.

ACTION: Notice of public meeting, request for comments, and availability of alternatives.

SUMMARY: This notice announces the availability of preliminary air tour alternatives and announces meetings hosted by the National Park Service, Haleakala National Park and the FAA's Air Tour Management Program. The purpose of the meetings is to introduce proposed alternatives to the public which contain specific routes and altitudes used by air tour operators when providing air tours of the Haleakala National Park. The meetings provide an opportunity for the public to review and comment on alternatives.

DATES: Comment Period: Comments must be received on or before June 6, 2011.

Meetings: The meetings will be held at the following locations, dates, and times:

Tuesday, April 12, 2011, 5 p.m.-7 p.m.

Maui Arts and Cultural Center (MACC), Alexa Higashi Meeting Room, One Cameron Way, Kahului, HI 96732.

Wednesday, April 13, 2011, 5 p.m.-7 p.m.

Kula Community Center, 3690 Lower Kula Road, Kula, HI 96790.

Thursday, April 14, 2011, 5 p.m.-7 p.m.

Helene Community Center (Hana), 150 Keawa Place, Hana, HI 96713.

FOR FURTHER INFORMATION CONTACT: Ms. Vicki McCusker, National Park Service, Natural Resource Program Center, Natural Sounds and Night Skies Division, 1201 Oakridge Drive, Suite 100, Fort Collins, CO 80525; telephone: (970) 267-2117 or Mr. Larry Tonish, Federal Aviation Administration, Air Tour Management Program, AWP-1SP, 15000 Aviation Blvd., Hawthorne, CA 90250; telephone: (310) 725-3817.

SUPPLEMENTARY INFORMATION: The FAA is issuing this notice pursuant to the National Parks Air Tour Management Act of 2000 (Pub. L. 106-181) and its implementing regulations contained in Title 14, Code of Federal Regulations, Part 136, National Parks Air Tour Management. The public is invited to review and provide comment on alternatives in the development of an Air Tour Management Plan (ATMP) for the Haleakala National Park. The FAA is the Lead Agency and the NPS is a Cooperating Agency in the development of an Environmental Impact Statement (EIS), an ATMP, and associated rulemaking actions which comply with the National Environmental Policy Act of 1969 (NEPA) requirements.

The EIS is being prepared in accordance with FAA Order 1050.1E, Environmental Impacts: Policies and Procedures, NPS Director's Order #12: Conservation Planning, Environmental Impact Analysis, and Decision-making, and NPS Management Policies. The FAA is now inviting the public, agencies, and other interested parties to provide comments, suggestions, and input regarding the range of alternatives and the potential impacts and effects of the alternatives on commercial air tours, natural resources, congressionally designated wilderness, cultural resources, and the park visitor experience.

Attendance is open to the interested public but limited to space availability. The FAA requests that comments be as specific as possible in response to actions that are being proposed under this notice. Both oral and written comments will be accepted during these meetings. Agency personnel will be available to record your spoken comments. All recorded and written comments become part of the official record along with previously submitted scoping comments. Comments can also be submitted to the NPS Planning, Environment and Public Comment Web site at: http://parkplanning.nps.gov/hale.

Documents that describe the Haleakala National Park ATMP project in greater detail and the preliminary ATMP alternatives under consideration are available at the following locations:

• FAA Air Tour Management Plan Program Web site,

http://www.faa.gov/about/office_org/headquarters_offices/arc/programs/air_tour_management_plan/.

• NPS Haleakala National Park Web site, http://www.nps.gov/hale.

• NPS Planning, Environment and Public Comment Web site, http://parkplanning.nps.gov/hale.

• Makawao Branch Public Library, 1159 Makawao Ave., Makawao 96768.

• Hana Branch Public Library, P.O. Box 490, Hana 96713.

• Kahului Branch Public Library, 90 School St., Kahului 96732.

Issued in Hawthorne, California on March 18, 2011.
Larry Tonish,
Program Manager, Air Tour Management Program.

[FR Doc. 2011-7308 Filed 3-28-11; 8:45 am]

BILLING CODE 4910-13-P